DEPARTMENT OF TRANSPORTATION

Office of the Secretary

Aviation Proceedings, Agreements Filed During the Week Ending January 19, 2001

The following Agreements were filed with the Department of Transportation under the provisions of 49 U.S.C. sections 412 and 414. Answers may be filed within 21 days after the filing of the application.

Docket Number: OST-2001-8691.

Date Filed: January 16, 2001.

Parties: Members of the International Air Transport Association.

Subject: PTC COMP 0753 dated 16 January 2001, Mail Vote 103—Resolution 011a (Amending), Mileage Manual Non-TC Member/Non-IATA Carrier Sectors, Intended effective date: 1 February 2001 for implementation 1 April 2001.

Docket Number: OST-2001-8692.

Date Filed: January 16, 2001.

Parties: Members of the International Air Transport Association.

Subject: PTC COMP 0754 dated 19 January 2001, Mail Vote 101—Resolution 010o, Special Adopting Resolution—fares to/from Gaza City, Intended effective date: 1 February 2001.

Docket Number: OST-2001-8734.

Date Filed: January 19, 2001.

Parties: Members of the International Air Transport Association.

Subject: PTC31 N&C/CIRC 0147 dated 1 December 2000, Mail Vote 097—Resolution 074r, TC31 North and Central Pacific, PEX Fares from Japan to North America, Caribbean, Intended effective date: 1 April 2001.

Dorothy Y. Beard,
Federal Register Liaison.

[FR Doc. 01-2971 Filed 2-2-01; 8:45 am]

BILLING CODE 4910-62-P